DEPARTMENT OF JUSTICE

National Institute of Corrections

Solicitation for a Cooperative Agreement—Evaluation of Technical Assistance for Evidence-Based Decisionmaking in Local Criminal Justice Systems

Funding Opportunity Number 10C84, found on pages 21349 and 21350.

The following funding opportunity was published on Friday, April 23, 2010 in Volume 75, No. 78.

“NOTICE”—An applicant conference will be held on Wednesday, May 19, 2010 beginning at 1 p.m. EST via WebEx. The conference will give applicants the opportunity to meet with NIC project staff and ask questions about the project and the application procedures. Attendance at the conference is optional. Provisions will be made using WebEx technology (telephone and computer-based conferencing). The WebEx session requires applicants to have access to a telephone and computer. Applicants who plan to attend should e-mail Lori Eville, Correctional Program Specialist at leville@bop.gov by Friday, May 14, 2010 at 3 p.m. EDT.

“NOTICE” of extended deadline date for submissions. Applications will be accepted until 5 p.m. on Monday, June 14, 2010.

Harry Fenstermaker,
Chief, National Institute of Corrections.

[FR Doc. 2010-11366 Filed 5-11-10; 8:45 am]

BILLING CODE P